DEPARTMENT OF TRANSPORTATION

Federal Railroad Administration

Notice of Final Federal Agency Actions on Proposed Railroad Project in California on Behalf of the California High-Speed Rail Authority

AGENCY: Federal Railroad Administration, Department of Transportation.

ACTION: Notice.

SUMMARY: The Federal Railroad Administration (FRA), on behalf of the California High-Speed Rail Authority (Authority), is issuing this notice to announce actions taken by the Authority that are final agency actions. The actions relate to the California High-Speed Rail (HSR) Palmdale to Burbank Project Section (Project). The Project will provide the public with electric-powered HSR service that provides predictable and consistent travel times between the Antelope Valley and the San Fernando Valley; provide connectivity to airports, mass transit systems, and the highway network in the Antelope Valley and the San Fernando Valley; and connect the Northern and Southern portions of the planned statewide HSR system. These actions grant permits, approvals, or authorizations for the Project.

DATES: By this notice, FRA, on behalf of the Authority, is advising the public of final agency actions subject to 23 U.S.C. 139(l)(1). A claim seeking judicial review of the Federal agency actions for the Project will be barred unless the claim is filed on or before September 28, 2026. If the Federal law that authorizes judicial review of a claim provides a time period of less than two years for filing such claim, then the shorter time period applies.

FOR FURTHER INFORMATION CONTACT: For the Authority: Stefan Galvez-Abadia, Director of Environmental Services, California High Speed Rail Authority, telephone: (916) 908-1184; email: Stefan.galvez@hsr.ca.gov. For FRA: Lana Lau, Supervisory Environmental Protection Specialist, Office of Railroad Development (RRD), telephone: (202) 923-5314, email: Lana.Lau@dot.gov.

SUPPLEMENTARY INFORMATION: Effective July 23, 2019, and as subsequently renewed on July 22, 2024, FRA assigned, and the State of California, acting through the Authority, assumed environmental responsibilities for the Project pursuant to 23 U.S.C. 327. Notice is hereby given that the Authority has taken final agency actions subject to 23 U.S.C. 139(l)(1) and 49 U.S.C. 24201(a)(4) by issuing approvals for the Project. The actions on the Project, as well as the laws under which such actions were taken, are described in the documentation issued for the Project to comply with the National Environmental Policy Act (NEPA) and related environmental laws.

This notice applies to all decisions on the Project as of the issuance date of this notice and all Federal laws under which such actions were taken, including but not limited to, NEPA (42 U.S.C. 4321 et seq.), section 4(f) requirements (23 U.S.C. 138, 49 U.S.C. 303), section 6(f) of the Land and Water Conservation Fund Act of 1965 (16 U.S.C. 4601-4 et seq.), section 106 of the National Historic Preservation Act (54 U.S.C. 306108), the Clean Air Act (42 U.S.C. 7401-7671q), the Endangered Species Act (16 U.S.C. 1531 et seq.), the Migratory Bird Treaty Act (16 U.S.C. 703-712), the Clean Water Act (33 U.S.C. 1251 et seq.). This notice does not, however, alter or extend a shorter limitation period that may exist for challenges of project decisions covered by this notice.

The purpose of the California HSR System is to provide a reliable, high-speed, electric-powered train system that links the major metropolitan areas of California, delivering predictable and consistent travel times. A further objective is to provide an interface with commercial airports, mass transit, and the highway network, and to relieve capacity constraints of the existing transportation system as increases in intercity travel demand in California occur, in a manner sensitive to and protective of California's unique natural resources.

For the Project, the Authority has selected the SR14A Alternative. The selected alternative consists of approximately 38 miles of electrified, high-speed train system that will be constructed from Spruce Court in the City of Palmdale and extending south to Winona Avenue in the City of Burbank. The Project will connect the approved Bakersfield to Palmdale and Burbank to Los Angeles Project Sections. The selected alternative and the laws under which the Authority's actions were taken are described in the Final Environmental Impact Report/Environmental Impact Statement (EIR/EIS), published on May 24, 2024, and in the Record of Decision (ROD) for the Project, executed on August 30, 2024. The Final EIR/EIS, ROD, and other documents are available by contacting the Authority at the addresses provided above or via the web at http://www.hsr.ca.gov/.

Authority: 49 U.S.C. 24201(a)(4) and 23 U.S.C. 139(l)(1).

Marlys Ann Osterhues,
Director, Office of Environmental Program Management.

[FR Doc. 2024-22199 Filed 9-26-24; 8:45 am]

BILLING CODE 4910-06-P